DEPARTMENT OF HEALTH AND HUMAN SERVICES

Centers for Disease Control and Prevention

Advisory Committee on Immunization Practices: Conference Call Meeting

In accordance with section 10(a)(2) of the Federal Advisory Committee Act (Pub. L. 92-463), the Centers for Disease Control and Prevention (CDC) announces the following joint conference call meeting of the Advisory Committee on Immunization Practices and its Smallpox Vaccine Safety Working Group.

Name: Advisory Committee on Immunization Practices (ACIP) and ACIP Smallpox Vaccine Safety Working Group.

Time and Date: 2 p.m.-4 p.m., March 28, 2003.

Place: The conference call will originate at the National Immunization Program (NIP), in Atlanta, Georgia. Please see SUPPLEMENTARY INFORMATION for details on accessing the conference call.

Status: Open to the public, limited only by the availability of telephone ports.

Purpose: The Committee is charged with advising the Director, CDC, on the appropriate uses of immunizing agents.

In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to Be Discussed: The Advisory Committee on Immunization Practices and its Smallpox Vaccine Safety Working Group will convene by conference call to discuss whether to recommend to CDC that persons with a history of cardiac disease be deferred from smallpox vaccination during the pre-event phase of the national smallpox vaccination program.

SUPPLEMENTARY INFORMATION: This conference call is scheduled to begin at 2 p.m., Eastern Standard Time. To participate in the conference call, please dial 1-888-849-8924 and reference passcode ACIP. You will then be automatically connected to the call.

As provided under 41 CFR 102-3.150(b), the public health urgency of this agency business requires that the meeting be held prior to the first available date for publication of this notice in the Federal Register.

Contact Person for More Information: Demetria Gardner, Epidemiology and Surveillance Division, National Immunization Program, CDC, 1600 Clifton Road, NE., (E-61), Atlanta, Georgia 30333, telephone 404/639-8096, fax 404/639-8616.

The Director, Management Analysis and Services Office, has been delegated the authority to sign Federal Register notices pertaining to announcements of meetings and other committee management activities for both the CDC and ATSDR.

Dated: March 31, 2003.
Alvin Hall,
Director, Management Analysis and Services Office, Centers for Disease Control and Prevention (CDC).

[FR Doc. 03-8195 Filed 4-3-03; 8:45 am]

BILLING CODE 4163-18-P